DEPARTMENT OF TRANSPORTATION

Federal Aviation Administration

14 CFR Part 39

[Docket No. FAA-2008-0353; Directorate Identifier 2007-CE-101-AD]

RIN 2120-AA64

Airworthiness Directives; Hawker Beechcraft Corporation Model 390 Airplanes

AGENCY: Federal Aviation Administration (FAA), Department of Transportation (DOT).

ACTION: Notice of proposed rulemaking (NPRM).

SUMMARY: We propose to adopt a new airworthiness directive (AD) for certain Hawker Beechcraft Corporation Model 390 airplanes. This proposed AD would require you to repetitively do a post-flight check (owner/operator holding at least a private pilot certificate checking for residual heat in the angle-of-attack (AOA) probes or an appropriately-rated mechanic doing a maintenance manual operational test of the heat of the AOA probes) after every flight and replace or modify (upload software) the stall warning AOA transmitters. This proposed AD results from reports of the potential for unannunciated loss of the heating function in the left-hand (LH) and right-hand (RH) stall warning AOA transmitters of Model 390 airplanes. We are proposing this AD to correct potentially inadequate stall warning with loss of stick pusher function.

DATES: We must receive comments on this proposed AD by May 27, 2008.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, 9709 East Central, Wichita, Kansas 67291; telephone: (800) 429-5372 or (316) 676-3140.

FOR FURTHER INFORMATION CONTACT: Philip Petty, Aerospace Engineer, Wichita Aircraft Certification Office, 1801 Airport Road, Room 100, Wichita, Kansas 67209; telephone: (316) 946-4139; fax: (316) 946-4107.

SUPPLEMENTARY INFORMATION:

Comments Invited

We invite you to send any written relevant data, views, or arguments regarding this proposed AD. Send your comments to an address listed under the ADDRESSES section. Include the docket number, “FAA-2008-0353; Directorate Identifier 2007-CE-101-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received reports of the potential for unannunciated loss of the heating function in the LH/RH stall warning AOA transmitters of Model 390 airplanes. The current AOA transmitter software may not always annunciate certain failure modes of the probe or case heating circuits.

This condition, if not corrected, could result in potentially inadequate stall warning with loss of stick pusher function.

Relevant Service Information

We have reviewed Hawker Beechcraft Mandatory Service Bulletin No. SB 27-3787, issued: May 2007; and Raytheon Aircraft Company Temporary Change to the FAA Approved Airplane Flight Manual P/N 390-590001-0003CTC7, issued: March 15, 2007. The service information describes procedures for the replacement/modification of the stall warning AOA transmitters. The airplane flight manual (AFM) describes procedures for doing a post-flight check. This post-flight check can be either the pilot checking for residual heat in the AOA probes as part of the shutdown procedure or, alternatively, having the AOA probe heat operational test maintenance manual procedure done by an appropriately-rated mechanic.

FAA's Determination and Requirements of the Proposed AD

We are proposing this AD because we evaluated all information and determined the unsafe condition described previously is likely to exist or develop on other products of the same type design. This proposed AD would require a repetitive post-flight check for residual heat in the AOA probes or a maintenance manual operational test of the heat of the AOA probes after every flight and replace or modify (upload software) the stall warning AOA transmitters. Replacement or modification (upload software) of the stall warning AOA transmitters terminates the repetitive requirement to do the post-flight action.

Costs of Compliance

We estimate that this proposed AD would affect 152 airplanes in the U.S. registry.

We estimate the following costs to incorporate and remove the temporary change to the AFM.

Labor cost | Parts cost | Total cost per airplane
0.5 work-hour × $80 per hour = $40 | Not Applicable | $40

We estimate that the proposed post-flight residual heat check requires about 3 minutes to do. We estimate the following costs to do 10 of the proposed post-flight residual heat checks. We have no way of determining the number of airplanes that would have this post-flight residual heat check, or how many times this will need to be performed before the terminating action is done:

Labor cost to do 10 post-flight residual heat checks | Parts cost | Total cost per airplane
0.5 work-hour × $80 per hour = $40 | Not Applicable | $40

We estimate the following costs to do the proposed maintenance manual operational test of the heat of the AOA probes. We have no way of determining the number of airplanes that would have this operational test, or how many times this will need to be performed before the terminating action is done:

Labor cost | Parts cost | Total cost per airplane
0.5 work-hour × $80 per hour = $40 | Not Applicable | $40

We estimate the following costs to do any proposed upload of software to the AOA transmitters. We have no way of determining the number of airplanes that would have this modification:

Labor cost | Parts cost | Total cost per airplane
4 work-hours × $80 per hour = $320 | Not Applicable | $320

We estimate the following costs to do any proposed replacement of 2 stall warning AOA transmitters. We have no way of determining the number of airplanes that would have this replacement:

Labor cost | Parts cost | Total cost per airplane
2 work-hours × $80 per hour = $160 | $18,600 | $18,760

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation: Docket No. FAA-2008-0353; Directorate Identifier 2007-CE-101-AD.

Comments Due Date

(a) We must receive comments on this airworthiness directive (AD) action by May 27, 2008.

Affected ADs

(b) None.

Applicability

(c) This AD applies to Model 390 airplanes, serial numbers RB-4 through RB-204, that are certificated in any category.

Unsafe Condition

(d) This AD results from reports of the potential for unannunciated loss of the heating function in the left-hand (LH) and right-hand (RH) stall warning angle-of-attack (AOA) transmitters of Model 390 airplanes. We are issuing this AD to correct potentially inadequate stall warning with loss of stick pusher function.

Compliance

(e) To address this problem, you must do the following, unless already done:

Actions | Compliance | Procedures
(1) Incorporate Raytheon Aircraft Company Temporary Change to the FAA Approved Airplane Flight Manual P/N 390-590001-0003CTC7, issued: March 15, 2007, into the airplane flight manual (AFM). | Within 15 hours time-in-service (TIS) after the effective date of the AD or within 30 days after the effective date of the AD, whichever occurs first | Not Applicable.
(2) After every flight do the following: (i) Do a post-flight check for residual heat in the AOA probes. CAUTION: TO PREVENT POSSIBLE BURNS, USE EXTREME CAUTION TOUCHING HEATED AREAS. TO CHECK HEATING AND AVOID BURNS, HOLD HAND NEAR HEATED AREA OR MOVE HAND GRADUALLY FROM AMBIENT AREA TOWARD HEATED AREA UNTIL WARMTH CAN BE FELT. If you do not feel heat in the AOA probes, then do paragraph (e)(2)(ii) of this AD; or (ii) Do a post-flight maintenance manual operational test of the heat of the AOA probes. If the AOA probe fails the operational test, replace the AOA probe. | Within 15 hours TIS after the effective date of the AD or within 30 days after the effective date of the AD, whichever occurs first. Completion of paragraph (e)(3)(i) or (e)(3)(ii) of this AD terminates the required repetitive post-flight check of this AD | (A) For the post-flight check for residual heat in the AOA probes: Follow AFM Temporary Change P/N 390-590001-0003CTC7, issued: March 15, 2007. The owner/operator holding at least a private pilot certificate as authorized by section 43.7 of the Federal Aviation Regulations (14 CFR 43.7) may do this post-flight check required by paragraph (e)(2)(i) of this AD. Make an entry into the aircraft records showing compliance with this AD following section 43.9 of the Federal Aviation Regulations (14 CFR 43.9). (B) For the post-flight maintenance manual operational test of the heat of the AOA probes: Follow the procedures of the maintenance manual to do the operational test of the heat of the AOA probes required by paragraph (e)(2)(ii) of this AD. The maintenance manual operational test must be done by an appropriately-rated mechanic. (C) For AOA probe replacement: Follow Hawker Beechcraft Mandatory Service Bulletin No. SB 27-3787, issued: May 2007.
(3) Replace or modify (upload software) the stall warning AOA transmitters by doing one of the following: (i) Upload new software Kit No. 123-3436 (Field Software Upload SLZ8060-3,-4) to the AOA transmitters; or (ii) Replace any part number (P/N) SLZ8060-3 and/or P/N SLZ8060-4 AOA transmitters with new P/N SLZ8060-5 AOA transmitters. | Within 250 hours TIS after the effective date of this AD or within 12 months after the effective date of this AD, whichever occurs first. Completion of either paragraph (e)(3)(i) or (e)(3)(ii) of this AD terminates the required repetitive post-flight check of this AD | Follow Hawker Beechcraft Mandatory Service Bulletin No. SB 27-3787, issued: May 2007.
(4) Remove Raytheon Aircraft Company Temporary Change to the FAA Approved Airplane Flight Manual P/N 390-590001-0003CTC7, issued: March 15, 2007, from the AFM. | Before further flight after doing the actions required by paragraph (e)(3)(i) or paragraph (e)(3)(ii) of this AD | Follow Hawker Beechcraft Mandatory Service Bulletin No. SB 27-3787, issued: May 2007.
(5) Do not install any P/N SLZ8060-3 or P/N SLZ8060-4 AOA transmitter that does not have the new upgraded software required by paragraph (e)(3)(i) of this AD. | As of the effective date of this AD | Not Applicable.

Alternative Methods of Compliance (AMOCs)

(f) The Manager, Wichita Aircraft Certification Office (ACO), FAA, has the authority to approve AMOCs for this AD, if requested using the procedures found in 14 CFR 39.19. Send information to ATTN: Philip Petty, Aerospace Engineer, Wichita ACO, 1801 Airport Road, Room 100, Wichita, Kansas 67209; telephone: (316) 946-4139; fax: (316) 946-4107. Before using any approved AMOC on any airplane to which the AMOC applies, notify your appropriate principal inspector (PI) in the FAA Flight Standards District Office (FSDO), or lacking a PI, your local FSDO.

Related Information

(g) To get copies of the service information referenced in this AD, contact Hawker Beechcraft Corporation, 9709 East Central, Wichita, Kansas 67291; telephone: (800) 429-5372 or (316) 676-3140. To view the AD docket, go to U.S. Department of Transportation, Docket Operations, M-30, West Building Ground Floor, Room W12-140, 1200 New Jersey Avenue, SE., Washington, DC 20590, or on the Internet at http://www.regulations.gov.

Issued in Kansas City, Missouri, on March 19, 2008.
John Colomy,
Acting Manager, Small Airplane Directorate, Aircraft Certification Service.

[FR Doc. E8-5959 Filed 3-24-08; 8:45 am]

BILLING CODE 4910-13-P